DEPARTMENT OF EDUCATION

Accrediting Agencies Currently Undergoing Review for the Purpose of Recognition by the U.S. Secretary of Education

AGENCY: U.S. Department of Education, Office of Postsecondary Education.

ACTION: Call for written third-party comments.

SUMMARY: This notice provides information to members of the public on submitting written comments for accrediting agencies currently undergoing review for the purpose of recognition by the Secretary of Education.

DATES: Comments must be received on or before 30 days from publication of this notice in the Federal Register.

FOR FURTHER INFORMATION CONTACT: Elizabeth Daggett, Director, Accreditation Group, Office of Postsecondary Education, U.S. Department of Education, 400 Maryland Avenue SW, fifth floor, Washington, DC 20202, telephone: (202) 453-7615, or email: elizabeth.daggett@ed.gov.

SUPPLEMENTARY INFORMATION: This request for written third-party comments concerning the performance of accrediting agencies under review by the Secretary of Education is required by Section 496(n)(1)(A) of the Higher Education Act of 1965, as amended, 20 U.S.C. 1001, et seq. (HEA), and pertains to the first meeting in 2027 of the National Advisory Committee on Institutional Quality and Integrity (NACIQI). The meeting date will be announced in a later Federal Register notice and will describe how to register to provide oral comments at the meeting. Written comments submitted in response to this Federal Register notice must be submitted to the electronic mail address identified below on or before the comment due date.

Agencies Under Review and Evaluation: The Department requests written comments from the public on the following accrediting agencies, which are currently undergoing review and evaluation by the Accreditation Group, and which will be reviewed at the first 2027 NACIQI meeting.

The agencies are listed by the type of application each agency has submitted. Please note, each agency's current scope of recognition is indicated below. If any agency requested to expand its scope of recognition, both the current scope of recognition and the requested scope of recognition are identified below.

Applications for Renewal of Recognition

1. American Podiatric Medical Association, Council on Podiatric Medical Education. Scope of Recognition: The accreditation and preaccreditation of freestanding colleges of podiatric medicine and programs of podiatric medicine, including first professional programs leading to the degree of Doctor of Podiatric Medicine and education offered via distance education. Geographic Area of Accrediting Activities: Throughout the United States.

2. Commission on English Language Program Accreditation. Scope of Recognition: The accreditation of postsecondary, non-degree-granting English language programs and institutions including those programs offered via distance education. Geographic Area of Accrediting Activities: Throughout the United States.

3. Council on Chiropractic Education, Commission on Accreditation. Scope of Recognition: The accreditation of programs leading to the Doctor of Chiropractic degree, including those programs offered via distance education. Geographic Area of Accrediting Activities: Throughout the United States.

4. Joint Review Committee on Education in Radiologic Technology. Scope of Recognition: The accreditation of educational programs in radiography, magnetic resonance, radiation therapy, and medical dosimetry, including those offered via distance education, at the certificate, associate, and baccalaureate levels. Geographic Area of Accrediting Activities: Throughout the United States.

Compliance Reports

1. Accrediting Council for Continuing Education and Training. Scope of Recognition: The accreditation of institutions of higher education that offer continuing education and vocational programs that confer certificates or occupational associate degrees, including those programs offered via distance education. Geographic Area of Accrediting Activities: Throughout the United States.

2. American Veterinary Medical Association, Council on Education. Scope of Recognition: The accreditation and preaccreditation (“Provisional Accreditation”) of programs leading to professional degrees (D.V.M. or V.M.D.) in veterinary medicine, including those offered via distance education. Geographic Area of Accrediting Activities: Throughout the United States.

3. National Association of Schools of Dance, Commission on Accreditation. Scope of Recognition: The accreditation of freestanding institutions that offer dance and dance-related programs (both degree and non-degree-granting), including those offered via distance education. Geographic Area of Accrediting Activities: Throughout the United States.

4. National Association of Schools of Music, Commission on Accreditation. Scope of Recognition: The accreditation of freestanding institutions that offer music and music-related programs (both degree and non-degree-granting) including those offered via distance. This recognition also extends to the Commission on Community College Accreditation. Geographic Area of Accrediting Activities: Throughout the United States.

5. National Association of Schools of Theatre, Commission on Accreditation. Scope of Recognition: The accreditation of freestanding institutions that offer theatre and theatre-related programs (both degree and non-degree-granting), including those offered via distance education. Geographic Area of Accrediting Activities: Throughout the United States.

Submission of Written Comments Regarding a Specific Accrediting Agency or State Agency Under Review

Written comments in response to this Federal Register notice about the recognition of any of the accrediting agencies listed above must be received on or before the comment due date, in the ThirdPartyComments@ed.gov mailbox. Please include in the subject line “Written Comments: (agency name).” The electronic mail (email) must include the name(s), title, organization/affiliation, mailing address, email address, and telephone number of the person(s) making the comment. Comments should be submitted as a PDF, Microsoft Word document, or in a medium compatible with Microsoft Word that is attached to an email or provided in the body of an email message. Comments about an agency that has submitted a compliance report scheduled for review by the Department must relate to the criteria for recognition cited in the senior Department official's letter that requested the report, or in the Secretary's appeal decision, if any. Comments about an agency that has submitted a petition for initial recognition, renewal of recognition, or an expansion of scope must relate to the agency's compliance with the Criteria for the recognition of Accrediting Agencies, which are available at: https://www2.ed.gov/admins/finaid/accred/index.html.

Only written materials submitted by the deadline to the email address listed in this notice, and in accordance with these instructions, become part of the official record concerning agencies scheduled for review and are considered by the Department and NACIQI in their deliberations. Comments about the agencies listed in this Federal Register notice may also be provided orally at the first 2027 NACIQI meeting, which has not yet been scheduled, but which will be announced in a future Federal Register notice.

Electronic Access to this Document: The official version of this document is the document published in the Federal Register. Free internet access to the official edition of the Federal Register and the Code of Federal Regulations is available via the Federal Digital System at: www.gpo.gov/fdsys. At this site, you can view this document, as well as all other documents of the Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1099b; 20 U.S.C. 1011c.

David Barker,
Assistant Secretary for Postsecondary Education.

[FR Doc. 2025-20599 Filed 11-20-25; 8:45 am]

BILLING CODE 4000-01-P